DEPARTMENT OF HEALTH AND HUMAN SERVICES

Centers for Disease Control and Prevention

Office for State, Tribal, Local and Territorial Support (OSTLTS); Meeting

In accordance with Presidential Executive Order No. 13175, November 6, 2000, and the Presidential Memorandum of November 5, 2009 and September 23, 2004, Consultation and Coordination with Indian Tribal Governments, CDC and the Agency for Toxic Substances and Disease Registry (ATSDR) announces the following meeting and Tribal Consultation Session:

Name: Tribal Advisory Committee (TAC) Meeting and 9th Biannual Tribal Consultation Session.

Times and Dates:

8:00 a.m.-5:00 p.m., August 28 and 29, 2012 (TAC Meeting);

8:00 a.m.-4:00 p.m., August 30, 2012 (9th Biannual Tribal Consultation Session).

Place: The TAC Meeting will be held at the Mohegan Sun, 1 Mohegan Sun Boulevard, Uncasville, Connecticut 06382.

Status: The meetings are being hosted by CDC/ATSDR and the Mohegan Tribe and are open to the public.

Purpose: The purpose of the Biannual Tribal Consultation is for CDC/ATSDR leadership and staff to conduct government-to-government consultation with elected tribal officials or their designated representatives and confer with American Indian/Alaska Native (AI/AN) community-based organizations and AI/AN urban and rural communities on issues that affect them. This exchange of information is meant to increase mutual understanding and increase effective collaboration and informed decision making. The purpose of the CDC/ATSDR Tribal Advisory Committee or TAC is to provide a complementary venue wherein tribal representatives and CDC/ATSDR leadership and staff exchange information about public health issues in Indian Country, identify urgent public health needs in AI/AN communities, and discuss collaborative approaches to addressing these issues and needs.

Matters To Be Discussed: The following topics are scheduled for presentation and discussion during the TAC Meeting; however, discussion is not limited to these topics: Social determinants of health, cancer control and prevention, the Strategic National Stockpile (strategically placed medicine and supplies for use in national emergencies) and opportunities at CDC/ATSDR for Native participation.

Topics that will be discussed during the Tribal Consultation include the following: Controlled Substance Abuse, Tobacco Control Efforts, and Motor Vehicle Safety.

Additional opportunities will be provided during the Consultation Session for tribal testimony. Tribal Leaders are encouraged to submit written testimony by 12:00 a.m., EST on August 22, 2012, to Kimberly Cantrell, Deputy Associate Director for Tribal Support, OSTLTS, CDC, via mail to 1600 Clifton Road NE., MS K-70, Atlanta, Georgia 30329, or email to klw6@cdc.gov. Depending on the time available, it may be necessary to limit the time of each presenter.

The agenda is subject to change as priorities dictate.

Information about the two upcoming meetings, past meetings, and CDC/ATSDR's policies related to these meetings, are available at http://www.cdc.gov/stltpublichealth/TribalSupport/announcements.html.

Contact Person for More Information: Kimberly Cantrell, Deputy Associate Director for Tribal Support, OSTLTS, CDC, via mail to 1600 Clifton Road NE., MS K-70, Atlanta, Georgia 30329, or email to klw6@cdc.gov. The Director, Management Analysis and Services Office has been delegated the authority to sign Federal Register notices pertaining to announcements of meetings and other committee management activities, for both the Centers for Disease Control and Prevention, and the Agency for Toxic Substances and Disease Registry.

Dated: June 22, 2012.
Elaine L. Baker,
Director, Management Analysis and Services Office, Centers for Disease Control and Prevention.

[FR Doc. 2012-16097 Filed 6-29-12; 8:45 am]

BILLING CODE 4163-18-P